DEPARTMENT OF AGRICULTURE

Forest Service

Klamath National Forest; California; Crawford Vegetation Management Project

AGENCY: Forest Service, USDA.

ACTION: Notice of intent to prepare an environmental impact statement.

SUMMARY: The Klamath National Forest is preparing an environmental impact statement (EIS) for the proposed Crawford Vegetation Management Project to improve forest health and biological diversity and to provide forest products on approximately 1,467 acres. The project was originally proposed as an environmental assessment and an opportunity for public scoping comments was provided between August 2011 and October 2011. Although consultation and analysis are still ongoing, so far they indicate that in order to effectively meet the purpose and need of the project, proposed project treatments might result in a likely to adversely affect determination for the Northern Spotted Owl and its habitat. Responsible official, Forest Supervisor Patricia Grantham, has decided to prepare an EIS instead of an EA for this project. The proposed action for the EIS is identical to the previous proposal as scoped in 2011.

The project is located about 15 miles southwest of the community of Happy Camp, off of the Bear Peak Road (Forest Road 15N19). The legal description of the proposed project area is: Township 14 North, Range 5 East, Sections 1, 12; Township 14 North, Range 6 East, Section 1, 3-5,12, 13, 15-17, 20-22, 28, 29; Township 15 North, Range 5 East, Section 25, 36; and Township 15 North, Range 6 East, section 26-29, 32-36, Humboldt Meridian.

DATES: Comments concerning the scope of the analysis must be received by February 11, 2014. The draft environmental impact statement is expected April 2014 and the final environmental impact statement is expected September 2014.

ADDRESSES: Send written comments to Patricia A. Grantham, ATTN: Lisa Bousfield, Happy Camp Oak Knoll Ranger District, 63822 Highway 96, P.O. Box 377, Happy Camp, CA 96039. Comments may also be sent via email to: pacificsouthwest-klamath-happy-camp@fs.fed.us, or via facsimile to 530-493-1796. Put the project name in the subject line; attachments may be in the following formats: Plain text (.txt), rich text format (.rtf), Word (.doc, .docx), or portable document format (.pdf). Comments may also be hand-delivered to the Happy Camp Oak Knoll District office during normal business hours (8 a.m. to 4:30 p.m. Monday-Friday, excluding holidays). For oral comments contact the interdisciplinary team leader, Lisa Bousfield at 530-493-1766.

FOR FURTHER INFORMATION CONTACT: Lisa Bousfield, Happy Camp Oak Knoll Ranger District, Klamath National Forest, Happy Camp, California, 96039. Phone: 530-493-1766. Email: lbousfield@fs.fed.us. Individuals who use telecommunication devices for the deaf (TDD) may call the Federal Information Relay Service (FIRS) at 1-800-877-8339 between 8 a.m. and 8 p.m., Eastern Time, Monday through Friday. Proposal information is also available on Klamath National Forest's project Web page at: http://www.fs.fed.us/nepa/nepa_project_exp.php?project=30373.

SUPPLEMENTARY INFORMATION:

Purpose and Need for Action

The purpose and need of the project is to improve forest health and biological diversity and to provide forest products. There is a need to close the gap between the existing and desired conditions, while protecting forest resources. The objectives are as follows: Forest Health: (1) Reduce tree density and competition, and restore a more resilient condition. (2) Maintain tree vigor for long term general health and to minimize insect and disease susceptibility. (3) Design and implement treatments that move the area towards conditions similar to which existed prior to fire suppression. (4) Use prescribed fire to reduce existing fuel buildups, treat pre- and post-harvest fuels, and influence vegetative development or composition. (5) Design desired fuel treatments to mimic the natural processes of the area and break up fuel continuity. (6) Reduce potential fire size and severity in order to protect natural resources, life, and property within and adjacent to the project area. (7) Maintain soil productivity. Forest Biological Diversity: (1) Manage specific areas to provide habitat for early and mid-seral species while retaining a legacy component. (2) Maintain and promote meadow, wetland, and riparian habitats for vegetation diversity and wildlife species. (3) Maintain conifer/species diversity. (4) Maintain black oak, chinquapin, and madrone when possible. (5) Develop trees toward legacy recruitment components. Provide Forest Products: (1) Provide personal use posts and poles. (2) Provide firewood—personal or commercial. (3) Provide a programmed flow of timber products, within the natural capabilities of the area.

Proposed Action

The Crawford Project includes five overlapping types of treatment: (1) Commercial Thinning—Natural Stands and Plantation Thinning; (2) Noncommercial Fuels Reduction Treatment; (3) Noncommercial Precommercial Thinning (PCT); (4) Mastication; and (5) Meadow and Wetland Restoration. In addition, the proposed action includes the use of 0.29 miles of temporary road on existing roadbeds within the project area, and construction of a total of approximately 0.69 miles of new temporary roads. No roads will be added to or deleted from the National Forest Transportation System. The estimated number of new landings needed for the project is 16 (about 10 acres) and 50 existing landings (about 15 acres).

Responsible Official

Patricia A. Grantham, Klamath National Forest Supervisor.

Nature of Decision To Be Made

The responsible official will decide whether to adopt and implement the proposed action, an alternative to the proposed action, or take no action to make changes to existing conditions in the Crawford Project Area.

Scoping Process

This notice of intent initiates the scoping process, which guides the development of the environmental impact statement. The project was originally proposed as an environmental assessment and an opportunity for public scoping comments was provided between August 2011 and October 2011. The proposed action for the EIS is identical the proposal as originally scoped in 2011. If you previously commented on the project, your comments have been and will continue to be considered in the development of alternatives. In order to move forward with this project, we ask that you do not repeat your comments. Following alternative development, the Forest Service will be providing another opportunity to comment on the alternatives and analysis.

If you have any new comments, we welcome those at this time. We are particularly interested in hearing about any potential issues, which are defined as points of discussion, dispute, or debate about the effects of the proposed action. Your participation will help the interdisciplinary team develop effective, issue-driven alternatives and mitigations to the proposed action as needed.

It is important that reviewers provide their comments at such times and in such a manner that they are useful to the agency's preparation of the environmental impact statement. Therefore, comments should be provided prior to the close of the comment period and should clearly articulate the reviewer's concerns and contentions.

Comments received in response to this solicitation, including names and addresses of those who comment, will be part of the public project record for this proposed action. Comments submitted anonymously will be accepted and considered; however, anonymous comments will not provide the agency with the ability to provide the respondent with subsequent environmental documents.

Dated: January 21, 2014.
Patricia A. Grantham,
Forest Supervisor.

[FR Doc. 2014-01480 Filed 1-24-14; 8:45 am]

BILLING CODE 3410-11-P